DEPARTMENT OF EDUCATION

[Docket No. ED-2013-ICCD-0049]

Agency Information Collection Activities; Submission to the Office of Management and Budget for Review and Approval; Comment Request; Study of the Delivery of Services Under the State Vocational Rehabilitation Grants Program

AGENCY: Department of Education (ED), Office of Special Education and Rehabilitative Services (OSERS).

ACTION: Notice.

SUMMARY: In accordance with the Paperwork Reduction Act of 1995 (44 U.S.C. chapter 3501 et seq.), ED is proposing a new information collection.

DATES: Interested persons are invited to submit comments on or before July 22, 2013.

ADDRESSES: Comments submitted in response to this notice should be submitted electronically through the Federal eRulemaking Portal at http://www.regulations.gov by selecting Docket ID number ED-2013-ICCD-0049 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117,Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of the Delivery of Services under the State Vocational Rehabilitation Grants Program.

OMB Control Number: 1820—NEW.

Type of Review: New collection.

Respondents/Affected Public: State, Local, or Tribal Governments.

Total Estimated Number of Annual Responses: 83.

Total Estimated Number of Annual Burden Hours: 212.

Abstract: The Vocational Rehabilitation (VR) Program provides a wide range of services to help individuals with disabilities to prepare for and engage in gainful employment. Eligible individuals are those who have a physical or mental impairment that results in a substantial impediment to employment, who can benefit from VR services for employment, and who require VR services. If a State is unable to serve all eligible individuals, priority must be given to serving individuals with the most significant disabilities. The program is funded through formula-based grants awarded by the Rehabilitation Services Administration (RSA) to State VR agencies receive funding from the basic Title I formula grant program. The Rehabilitation Act Title I formula grant program provides funds to VR agencies to help individuals with disabilities prepare for and engage in gainful employment consistent with their strengths, abilities, interests, and informed choice through such supports as counseling, medical, and psychological services, job training, and other individualized services.

RSA proposes to conduct a national survey of all 80 state VR agencies. RSA seeks to evaluate how State VR agencies deliver services for individuals with disabilities, how and to what extent state VR agencies work with partner agencies or programs to deliver services, and to review program outcomes and their associated costs, including identifying cost effective practices for serving specific target populations. RSA will address the following objectives: Determine the methods and practices used by State VR agencies in delivering services to individuals with disabilities, including optimal patterns of delivery in serving specific populations; determine how, and to what extent, State VR agencies work with partner agencies or programs to deliver services; and examine program outcomes and their associated costs, including identifying cost effective practices for serving specific target populations.

Dated: June 17, 2013.
Tomakie Washington,
Acting Director, Information Collection Clearance Division, Privacy, Information and Records Management Services, Office of Management.

[FR Doc. 2013-14785 Filed 6-20-13; 8:45 am]

BILLING CODE 4000-01-P